FEDERAL COMMUNICATIONS COMMISSION

47 CFR Part 73

[FCC 04-154; MM Docket No. 90-66]

Radio Broadcasting Services; Lincoln, Osage Beach, Steelville, and Warsaw, MO

AGENCY: Federal Communications Commission.

ACTION: Final rule; petition for reconsideration, dismissed.

SUMMARY: The Commission dismissed a petition for reconsideration filed by Twenty-One Sound Communications, licensee of Station KNSX(FM), Steelville, Missouri, of a decision, denying its application for review and its petition to upgrade the class of the Steelville station. Since Twenty-One Sound's arguments were fully considered in the prior decision, reconsideration was not warranted. See 67 FR 17014 (April 9, 2002).

FOR FURTHER INFORMATION CONTACT: Andrew J. Rhodes, Media Bureau, (202) 418-2180.

SUPPLEMENTARY INFORMATION: This is a synopsis of the Commission's Memorandum Opinion and Order in MM Docket No. 90-66, adopted June 30, 2004, and released July 8, 2004. The full text of this Commission decision is available for inspection and copying during normal business hours in the FCC's Reference Information Center at Portals II, CY-A257, 445 12th Street, SW., Washington, DC. The complete text of this decision may also be purchased from the Commission's duplicating contractor, Best Copy and Printing, Inc., 445 12th Street, SW., Room CY-B402, Washington, DC 20554, telephone 1-800-378-3160, or via e-mail http://www.BCPIWEB.com. This document is not subject to the Congressional Review Act. (The Commission is, therefore, not required to submit a copy of this to GAO, pursuant to the Congressional Review Act, see 5 U.S.C. 801(a)(1)(A), because this proposed rule was denied or dismissed.)

Federal Communications Commission.
Marlene H. Dortch,
Secretary.

[FR Doc. 04-16735 Filed 7-21-04; 8:45 am]

BILLING CODE 6712-01-P